CORPORATION FOR NATIONAL AND COMMUNITY SERVICE

Due Dates for Applications for Assistance Under Learn and Serve America and AmeriCorps*State/National

AGENCY: Corporation for National and Community Service.

ACTION: Notice.

SUMMARY: The Corporation for National and Community Service announces the timeline for applications for assistance under Learn and Serve America and Americorps*State/National.

FOR FURTHER INFORMATION CONTACT: Nancy Talbot, (202) 606-5000, ext. 470. T.D.D. (202) 565-2799. For individuals with disabilities, we will make this information available in alternative formats upon request.

SUPPLEMENTARY INFORMATION: Pursuant to the National and Community Service Act of 1990, as amended (42 U.S.C. 12501 et seq.), we announce the following timeline for applications for assistance under Learn and Serve America and AmeriCorps*State/National.

Learn and Serve America

School-based, March 6, 2000.

Community-based, March 6, 2000.

Higher Education, March 6, 2000.

Community, Higher Education, and School Partnership, March 6, 2000.

AmeriCorps*State

Competitive, February 28, 2000.

Formula, May 15, 2000.

Programs in South Dakota and North Dakota, May 15, 2000.

U.S. Territory, May 15, 2000.

Indian Tribes (new), March 21, 2000.

Indian Tribes (continuation), April 27, 2000.

Indian Tribes (residential concept papers), February 28, 2000.

AmeriCorps*National (new), March 21, 2000.

AmeriCorps*National (continuation), March 14, 2000.

AmeriCorps*Education Awards, May 15, 2000, and November 9, 2000.

The application guidelines for each type of program contain program requirements as well as information about the application process itself. If you are an organization that applies directly to us, you may download the application guidelines from our website at: http://americorps.org/resources/ and http://learnandserve.org/resources, or you can obtain a hard copy by calling (202) 606-5000, ext. 163. If you are an organization intending to apply for an AmeriCorps grant to support a program in the District of Columbia, we will publish a separate notice in the Federal Register. For organizations that apply directly to a State Commission, you may obtain contact information at http://www.nationalservice.org/contactus.html.

Dated: February 11, 2000.
Gary Kowalczyk,
Coordinator of National Service Programs, Corporation for National and Community Service.

[FR Doc. 00-3669 Filed 2-15-00; 8:45 am]

BILLING CODE 6050-28-U